DEPARTMENT OF LABOR

Employment and Training Administration

[Docket No. TA-W-38,717; TA-W-38,717A]

International Paper, Costigan Mill, Milford, ME; International Paper Passadumkeag Mill Passadumkeag, ME; Notice of Revised Determination on Reconsideration

On June 25, 2001, the Department of Labor issued a notice of affirmative determination regarding application for reconsideration of the denial of Trade Adjustment Assistance for workers of the subject firm. The notice was published in the Federal Register on July 11, 2001 (66 FR 36331).

The workers at International Paper, Costigan Mill, Milford, Maine and the Passadumkeag Mill in Passadumkeag, Maine, produced stud grade lumber. The petition was denied because the contributed importantly test of the group eligibility requirements of section 222 of the Trade Act of 1974, was not met.

On reconsideration, the Department conducted additional customer surveys. The surveys revealed that customers increased import purchases of stud grade lumber while reducing purchases from International Paper's Costigan and Passadumkeag mills.

Conclusion

After careful review of the additional facts obtained on reconsideration, I conclude that increased imports of articles like or directly competitive with stud grade lumber produced by the workers of International Paper, Costigan Mill, Milford, Maine, and Passadumkeag Mill, Passadumkeag, Maine, contributed importantly to the declines in sales or production and to the total or partial separation of workers of the subject firms. In accordance with the provisions of the Trade Act, I make the following certification:

All workers of International Paper, Costigan Mill, Milford, Maine, and Passadumkeag Mill, Passadumkeag, Maine, who became totally or partially separated from employment on or after February 5, 2000, through two years from the date of this revised determination, are eligible to apply for adjustment assistance under Section 223 of the Trade Act of 1974.
Signed in Washington, DC, this 25th day of September 2001.
Edward A. Tomchick,
Director, Division of Trade, Adjustment Assistance.

[FR Doc. 01-25468 Filed 10-10-01; 8:45 am]

BILLING CODE 4510-30-M